CHEMICAL SAFETY AND HAZARD INVESTIGATION BOARD

Agency Information Collection Activities; Accidental Release Reporting Form

AGENCY: U.S. Chemical Safety and Hazard Investigation Board (CSB).

ACTION: 30-Day notice of submission of information collection request (ICR) renewal approval and request for comments.

SUMMARY: The proposed information collection request (ICR) renewal described below will be submitted to the Office of Management and Budget (OMB) for review and approval, as required by the Paperwork Reduction Act of 1995. The Chemical Safety Board (CSB) is soliciting public comments on this proposed collection renewal. The purpose of this notice is to allow for an additional 30 days of public comment.

DATES: Comments should be sent no later than 5 p.m. EDT on Tuesday, May 30, 2023.

ADDRESSES: Interested persons are invited to submit comments regarding this proposal. When commenting on the proposed information collections, please reference the document identifier or OMB control number. To be assured consideration, comments and recommendations must be received by the OMB desk officer via one of the following transmissions within 30 days of publication of this notice: OMB, Office of Information and Regulatory Affairs, Attention: Chemical Safety Board Desk Officer, Fax Number: (202) 395-5806 OR, Email: OIRA_submission@omb.eop.gov.

Additionally, written comments and recommendations for the proposed information collection can be sent within 30 days of publication of this notice to www.reginfo.gov/public/do/PRAMain. To find this particular information collection request, select “Currently under 30-day Review—Open for Public Comments” or use the search function.

Requests for information, including copies of the information collection proposed and supporting documentation should be directed to: Tamara Qureshi, Assistant General Counsel, U.S. Chemical Safety and Hazard Investigation Board, at report@csb.gov.

FOR FURTHER INFORMATION CONTACT: Tamara Qureshi, Assistant General Counsel, U.S. Chemical Safety and Hazard Investigation Board, 1750 Pennsylvania Ave. NW, Suite 910, Washington, DC 20006, report@csb.gov or 202-261-7600.

SUPPLEMENTARY INFORMATION:

Title: CSB Accidental Release Reporting Form.

OMB Control Number: 3301-0001.

Expiration Date of Approval: 04-30-2023.

Type of Request: Renewal.

Abstract: The enabling statute of the Chemical Safety and Hazard Investigation Board (CSB) provides that the CSB shall establish by regulation requirements binding on persons for reporting accidental releases into the ambient air subject to the Board's investigative jurisdiction. The CSB published its Accidental Release Reporting Rule (40 CFR part 1604) on February 21, 2020. This final rule is intended to satisfy the CSB's statutory requirement. The rule describes when an owner or operator is required to file a report of an accidental release, and the required content of such a report. The purpose of the rule is to ensure that the CSB receives rapid, accurate reports of any accidental release that meets established statutory criteria.

In conjunction with the Accidental Release Reporting Rule, the CSB also developed a form to capture the information necessary to initially assess an accidental release. The form is located on CSB's website: https://www.csb.gov/news/incident-report-rule-form-/.

Type of Respondents: The vast majority of respondents will be private sector businesses involved in the production, storage or handling of regulated substances or extremely hazardous substances.

Estimate Annual Number of Respondents: 100.

Frequency of Use: On occasion. Most respondents will only submit a response if an accidental release within the scope of the rule occurs during a given year. For the vast majority of potential respondents, the frequency of responses will likely be “none” in a given year.

Small Businesses or Organizations Affected: No. At the time of the rulemaking, the CSB determined that the rule would not have an impact on businesses, including small businesses. Furthermore, there have been even less reports than originally predicted.

Estimated Number of Annual Responses: 100.

Estimated Average Burden Hours per Response: 0.25 hour. The CSB acknowledges that there may be additional burdens on the public that are not quantifiable.

Estimated Total Annual Burden Hours: 25 hours.

Need for and Use of Information: The CSB is required by law to issue an accidental release reporting rule. The CSB intends to use the information to learn of any accidental release within its jurisdiction and to plan how to respond to that accidental release.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

The CSB is still accepting comments under its 60-day notice at report@csb.gov or 202-261-7600 until 5 p.m. EDT April 28, 2023.

Dated: April 26, 2023.
Tamara Qureshi,
Assistant General Counsel, Chemical Safety and Hazard Investigation Board.

[FR Doc. 2023-09177 Filed 4-27-23; 11:15 am]

BILLING CODE 6350-01-P